DEPARTMENT OF THE INTERIOR

Bureau of Land Management

[UT-020-00-1430-PD]

Notice

AGENCY: Bureau of Land Management, Interior.

ACTION: Emergency closure.

SUMMARY: Under the authority of 43 CFR 8364.1(a), notice is hereby given that an emergency closure for the use and operation of motorized vehicles is in effect on public lands administered by the Salt Lake Field Office, Bureau of Land Management, as follows:

All existing and future Federal land within the North Oquirrh Management Area within the following description:

T. 1 S., R. 3 W., SLM

Section 20, SW¼; Sections 19, 29, 30, 31, 32;

T. 2 S., R. 3 W., SLM

Tract 37;

Sections 5, 6, 7, 8;

Section 16, SW¼SW¼;

Sections 17, 18, 19, 20;

Section 21, W½W½;

Section 28, W½, SE¼;

Sections 29, 30, 31, 32, 33;

Section 34, W½W½;

T. 1 S., R. 4 W., SLM

Section 24, SE¼;

Sections 25, 36;

All lands east of the Union Pacific Railroad within:

T. 2 S., R. 4 W., SLM

Tract 37;

Sections 1, 11, 12, 13, 14, 15, 22, 23, 24, 25, 26, 36;

DATES: Effective July 18, 2000, this closure will remain in effect until revoked.

FOR FURTHER INFORMATION CONTACT: Michael Nelson, Acting Assistant Field Manager, Salt Lake Field Office, Bureau of Land Management, 2370 South 2300 West, Salt Lake City, Utah 84119; (801)-977-4300.

SUPPLEMENTARY INFORMATION: This order is put into effect due to extreme wildland fire conditions and the immediate threat to high value private property, degradation of watershed, and the loss of important resources values resulting from wildland fires in the area. The closure is also necessary to protect fragile slopes already burned from erosion and damage by motorized vehicles while rehabilitation actions are underway.

Violations of this closure are punishable by a fine up to $100,000 and/or imprisonment not to exceed 12 months as provided in 43 CFR 8360.

Dated: July 11, 2000.
Glenn A. Carpenter,
Field Office Manager.

[FR Doc. 00-18064 Filed 7-17-00; 8:45 am]

BILLING CODE 4310-$$-P